DEPARTMENT OF AGRICULTURE

Forest Service

Information Collection; National Woodland Owner Survey

AGENCY: Forest Service, USDA.

ACTION: Notice; request for comment.

SUMMARY: In accordance with the Paperwork Reduction Act of 1995, the Forest Service is seeking comments from all interested individuals and organizations on the renewal of the National Woodland Owner Survey information collection.

DATES: Comments must be received in writing on or before February 20, 2018 to be assured of consideration. Comments received after that date will be considered to the extent practicable.

ADDRESSES: Comments concerning this notice should be addressed to Brett Butler, USDA Forest Service, 160 Holdsworth Way, Amherst, MA 01003. Comments also may be submitted via facsimile to 413-545-1860 or by email to: bbutler01@fs.fed.us.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the draft supporting statement and/or comments received at 160 Holdsworth Way, Room 202, Amherst, MA 01003 during normal business hours. Visitors are encouraged to call ahead to 413-545-1387 to facilitate entry to the building. The public may request an electronic copy of the draft supporting statement and/or any comments received be sent via return email. Requests should be emailed to bbutler01@fs.fed.us.

FOR FURTHER INFORMATION CONTACT: Brett Butler, Northern Research Station, 413-545-1387. Individuals who use telecommunication devices for the deaf (TDD) may call the Federal Information Relay Service (FIRS) at 1-800-877-8339 twenty-four hours a day, every day of the year, including holidays.

SUPPLEMENTARY INFORMATION:

Title: National Woodland Owner Survey.

OMB Number: 0596-0078.

Expiration Date of Approval: 11/30/2018.

Type of Request: Renewal.

Abstract: There are an estimated 816 million acres of forestland across the United States. Of this forestland, over half is owned by millions of corporations, families, individuals, tribes, and other private groups with the remaining managed by over a thousand different federal, state, and local government agencies. Understanding the attitudes and behaviors of the owners and managers of the forestland is critical for understanding the current and future state of the nation's forests. The Forest Service conducts the National Woodland Owner Survey (NWOS) to increase our understanding of:

• Who owns and manages the forestland of the United States;

• Why they own/manage it;

• How they have used it; and

• How they intend to use it.

This information is used by policy analysts, foresters, educators, and researchers to facilitate the planning and implementation of forest policies and programs.

The Forest Service's direction and authority to conduct the NWOS is from the Forest and Range Land Renewable Resources Planning Act of 1974, the Forest and Range Land Renewable Resources Act of 1978. These acts assign responsibility for the inventory and assessment of forest and related renewable resources to the Forest Service. Additionally, the importance of an ownership survey in this inventory and assessment process is highlighted in the 2014 Farm Bill, the Agricultural Research, Extension, and Education Reform Act of 1998, and the recommendations of the Second Blue Ribbon Panel on the Forest Inventory and Analysis program (FIA).

Previous iterations of the NWOS were conducted in 1978, 1993, 2002-2006, 2011-2013, and 2017-2018. Approval for the last iteration of the NWOS expires on November 30, 2018. If renewed, the NWOS will operate for another 3-year cycle.

Information will be collected related to:

• The characteristics of the land holdings;

• Attitudes and perceptions of the owners and managers;

• Resource uses and management activities; and

• Where applicable, landowner demographics.

Separate survey instruments are being developed for families and individuals, corporate, and public ownerships. In addition, the owners in urban areas will be sent a different survey instrument. For the families and individuals, the dominant ownership group of forestland owners, a subset of ownerships will be sent survey instruments addressing the following topics, in addition to the core questions from the base survey instrument:

• Wildfires;

• Invasive species;

• Climate change;

• Land owner values; and

• Decision making.

The NWOS provides widely cited benchmarks for the number, extent, and characteristics of owners of forestland in the United States. These results have been used to assess the sustainability of forest resources at national, regional, and state levels; to implement and assess forest-land owner assistance programs; and to answer a variety of questions with topics ranging from fragmentation to the economics of timber production. This is the only effort to collect in-depth information about owners of forestland at the national scale. It provides longitudinal data to track ownership trends and allows for comparisons across regions of the country.

The respondents will be a statistically selected group of individuals, families, American Indian tribes, partnerships, corporations, nonprofit organizations, and other private groups that own forestland in the United States in addition to a statistically selected group of federal, state, and local government agencies that manage forestland. A well distributed, random set of sampling points has been established across the country. At each point, remotely sensed data, such as aerial photographs or satellite imagery, will be used to identify forested points. For the forested points, public records will be used to identify the owners of record—the names and addresses of the landowners we will contact. The number of owners of forestland to be contacted in each state will be approximately 330.

The NWOS will utilize a mixed-mode survey technique involving cognitive interviews, focus groups, self-administered questionnaires, and telephone interviews. Cognitive interviews will be used to test specific questions. Focus groups will be used to provide more in-depth understanding of the responses and to explore new areas of inquiry.

The implementation of the self-administered survey will involve up to four contacts. First, a pre-notice postcard will be sent to all potential respondents describing this information collection and why the information is being collected. Second, a questionnaire with a cover letter and pre-paid return envelope will be sent to the potential respondents. The cover letter will reiterate the purpose of this information collection and provide the respondents with all legally required information. Third, a reminder will be mailed to thank the respondents and encourage the non-respondents to reply. Those who have yet to respond will be sent a new questionnaire, cover letter, and pre-paid return envelope. Telephone interviews will be used for follow-up with non-respondents. For corporations and public agencies, the primary survey instrument will be electronic, and for all other owners, the primary survey instrument will be paper forms with the option for completing the survey electronically online.

Forest Service researchers will coordinate all components of this information collection. Forest Service personnel with assistance provided by cooperators at the Family Forest Research Center located at the University of Massachusetts Amherst will conduct the mail portion of the survey, cognitive interviews, and focus groups. The U.S. Department of Agriculture, National Agricultural Statistics Service will conduct the telephone follow-ups. Data will be compiled and edited by Forest Service and Family Forest Research Center personnel. Forest Service researchers and cooperators will analyze the collected data. National, regional, and state-level results will be distributed through print and/or electronic media.

This information collection will generate scientifically-based, statistically-reliable, up-to-date information about the owners of forestland in the United States. The results of these efforts will provide more reliable information on this important and dynamic segment of the United States population; thus facilitating more complete assessments of the country's forestland resources and improved planning and implementation of forestry programs on state, regional, and national levels.

Affected Public: Individuals and Households, the Private Sector (Businesses and Non-Profit Organizations), and/or State, Local or Tribal Government.

Estimate of Burden per Response: 25 minutes for families, individuals, and other private groups with small holdings; 30 minutes for corporations with large holdings; 15 minutes for public agencies.

Estimated Annual Number of Respondents: 4,188.

Estimated Annual Number of Responses per Respondent: 1.

Estimated Total Annual Burden on Respondents: 2,433 Hours.

Comment is Invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: December 4, 2017.
Carlos Rodriguez-Franco,
Deputy Chief, Research and Development.

[FR Doc. 2017-27286 Filed 12-18-17; 8:45 am]

BILLING CODE 3411-15-P